DEPARTMENT OF HEALTH AND HUMAN SERVICES

Centers for Medicare & Medicaid Services

[Document Identifier: CMS-10182, CMS-10194, CMS-R-136 and CMS-10185]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Model Creditable Coverage Disclosure Notices; Use: Section 1860D—1 of the MMA requires entities that offer prescription drug benefits under any of the types of coverage described in 42 CFR 423.56(b) to provide a disclosure of creditable coverage status to all Medicare Part D eligible individuals covered under the entity's plan. These disclosure notices must be provided to Part D eligible individuals, at a minimum, at the following times: (1) Prior to an individual's initial enrollment period for Part D, (2) prior to the effective date of enrollment in the entity's coverage, and upon any change in creditable status; (3) prior to the commencement of the Part D Annual Coordinated Election Period (ACEP) which begins on November 15 of each year, and (4) upon request by the individual. Disclosure of whether prescription drug coverage is creditable provides Medicare eligible individuals with important information relating to their Medicare Part D enrollment. Form Number: CMS-10182 (OMB#: 0938-0990); Frequency: Reporting: Yearly and Semi-annually Affected Public: Business or other for-profit, Not-for-profit institutions and Federal, State, local or tribal government; Number of Respondents: 450,160; Total Annual Responses: 1,225,173; Total Annual Hours: 522,204.

2. Type of Information Collection Request: New collection; Title of Information Collection: Mail Survey of Medicare Advantage Special Needs Plans (SNPs)/Focus Groups with Enrollees of Medicare Advantage SNPs; Use: CMS is conducting an evaluation of Medicare Advantage Special Needs Plans (SNPs), which includes developing profiles of all SNPs that describe the structure and operation of these plans. A one-time short mail questionnaire will gather information about SNPs that is not available from other sources, such as reason for becoming a SNP, and information on care coordination. One-time 90-minute focus groups conducted during site visits to 15 SNPs will provide information on beneficiary experiences in SNPs, including decision to enroll and use of special services. Form Number: CMS-10194 (OMB#: 0938-NEW); Frequency: Reporting—One-time; Affected Public: Business or other for-profit, Not-for-profit institutions; Number of Respondents: 350; Total Annual Responses: 350; Total Annual Hours: 395.

3. Type of Information Collection Request: Extension of a currently approved collection; Title of Information Collection: Proper Claim Not Filed and Supporting Regulation in 42 CFR 411.32(c); Use: Section 411.32(c) requires physicians, providers, other suppliers, and beneficiaries, in case where they failed to submit a proper claim with a third party payer to report these situations on the current Medicare forms. The primary payer will notify the physician, provider, other supplier, or beneficiary of the amount normally payable, the amount of the reduction payable because the claim was not filed properly, and the amount the physician, provider, other supplier, or beneficiary is being paid under the “primary plan” due to the reduction. The information is transmitted on an explanation of benefits or remittance advice determination that third party payers provide to all covered individuals and physicians, providers and other suppliers as part of an industry practice. The information contained in this explanation, whether or not it concerns improperly filed claims, is submitted to Medicare as part of the claims process. Form Number: CMS-R-136 (OMB#: 0938-0564); Frequency: Reporting—On occasion; Affected Public: Business or other for-profit, Not-for-profit institutions, and Individuals or Households; Number of Respondents: 1,129,000; Total Annual Responses: 1,129,000; Total Annual Hours: 1.

4. Type of Information Collection Request: Revision of a currently approved collection; Title of Information Collection: Medicare Part D Reporting Requirements and Supporting Regulations under 42 CFR 423.505; Use: Data collected via Medicare Part D Reporting Requirements will be an integral resource for oversight, monitoring, compliance and auditing activities necessary to ensure quality provision of the Medicare Prescription Drug Benefit to beneficiaries. Data will be validated, analyzed, and utilized for trend reporting by CMS. If outliers or other data anomalies are detected, CMS will work in collaboration with other CMS divisions for follow-up and resolution. Form Number: CMS-10185 (OMB#: 0938-0992); Frequency: Reporting: Quarterly and Semi-annually; Affected Public: Business or other for-profit; Number of Respondents: 3,203; Total Annual Responses: 179,368; Total Annual Hours: 122,902.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: September 15, 2006.
Michelle Shortt,
Director, Regulations Development Group, Office of Strategic Operations and Regulatory Affairs.

[FR Doc. 06-8072 Filed 9-21-06; 8:45 am]

BILLING CODE 4120-01-P